DEPARTMENT OF HOUSING AND URBAN DEVELOPMENT

[Docket No. FR-5683-N-105]

30-Day Notice of Proposed Information Collection: Public Housing Energy Audits and Utility Allowances

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 10, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 25, 2013.

A. Overview of Information Collection

Title of Information Collection: Public Housing Energy Audits and Utility Allowances.

OMB Approval Number: 2577-062.

Type of Request: Reinstatement, with change, of previously approved collection.

Form Number: HUD-50078.

Description of the need for the information and proposed use: 24 CFR 965.301, Subpart C, Energy Audit and Energy Conservation Measures, requires PHAs to complete energy audits once every five years and undertake cost-effective energy conservation measures. 24 CFR Part 965, Subpart E, Resident Allowances for Utilities, requires PHAs to establish, review and revise utility allowances for PHA-furnished utilities and for resident-purchased utilities.

Respondents (i.e. affected public): Public Housing Agencies.

Section reference | Number of respondents | Number of responses per respondent | Total annual number of responses | Estimated average time for requirement (in hours) | Estimated annual burden (in hours)
965.302—Energy Audits | 680 | 1 | 680 | 3.5 | 2,380
965.308—Energy Performance Contracts | 22 | 1 | 22 | 100 | 2,200
965.402—Benefit/Cost Analysis | 5 | 1 | 1 | 3 | 15
965.502—Establish utility allowances | 5 | 1 | 5 | 20 | 100
965.507—Review utility allowances | 13,100 | 1 | 3,100 | 2 | 6,200
965.507—Revise utility allowances | 21,240 | 1 | 1,240 | 20 | 24,800
965.506—Establishment of Surcharges for Excess Consumption | 200 | 1 | 200 | 1 | 200
Optional Benchmarking (50078 available for this purpose) | 350 | 1 | 350 | 1.5 | 525
965-508-Individual Relief Criteria | 1,000 | 1 | 1,000 | 1 | 1,000
Total Paperwork Burden for OMB Control #2577-0062 |  |  |  |  | 37,420

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: December 4, 2013.
Colette Pollard,
Department Reports Management Officer, Office of the Chief Information Officer.

[FR Doc. 2013-29543 Filed 12-10-13; 8:45 am]

BILLING CODE 4210-67-P